DEPARTMENT OF ENERGY

Federal Energy Regulatory Commission

Combined Notice of Filings No. 1

August 23, 2010.

Take notice that the Commission received the following electric rate filings:

Docket Numbers: ER00-2815-000.

Applicants: Wheelabrator Shasta Energy Company Inc.

Description: Response to request of FERC staff of Wheelabrator Shasta Energy Company Inc.

Filed Date: 08/20/2010.

Accession Number: 20100820-5134.

Comment Date: 5 p.m. Eastern Time on Friday, September 10, 2010.

Docket Numbers: ER05-1232-024; ER07-1358-014.

Applicants: J.P. Morgan Ventures Energy Corporation.

Description: J.P. Morgan Ventures Energy Corporation and BE Louisiana LLC submit Second Supplement to Updated Market Power Analysis and Order No. 697 Compliance Filing.

Filed Date: 08/17/2010.

Accession Number: 20100817-5123.

Comment Date: 5 p.m. Eastern Time on Tuesday, September 07, 2010.

Docket Numbers: ER06-1399-007.

Applicants: Sunbury Generation LP.

Description: Supplemental Information of Sunbury Generation LP.

Filed Date: 08/23/2010.

Accession Number: 20100823-5092.

Comment Date: 5 p.m. Eastern Time on Monday, September 13, 2010.

Docket Numbers: ER09-1650-001; OA09-32-001.

Applicants: BP Wind Energy North America Inc.

Description: CFA Parties submits amendment to the Common Facilities Agreement, effective 8/18/10.

Filed Date: 08/17/2010.

Accession Number: 20100818-0201.

Comment Date: 5 p.m. Eastern Time on Tuesday, September 07, 2010.

Docket Numbers: ER10-895-005.

Applicants: Detroit Edison Company.

Description: The Detroit Edison Company submits Notice of Cancellation.

Filed Date: 08/12/2010.

Accession Number: 20100812-0208.

Comment Date: 5 p.m. Eastern Time on Thursday, September 02, 2010.

Docket Numbers: ER10-1400-000.

Applicants: Midwest Independent Transmission System Operator, Inc.

Description: Response to Deficiency Letter of Midwest Independent System Transmission Operator, Inc.

Filed Date: 08/18/2010.

Accession Number: 20100818-5024.

Comment Date: 5 p.m. Eastern Time on Wednesday, September 08, 2010.

Docket Numbers: ER10-1466-002.

Applicants: Community Power & Utility LLC.

Description: Community Power & Utility LLC submits Amended Petition for Acceptance of Initial Tariff, Waivers and Blanket Authority.

Filed Date: 08/18/2010.

Accession Number: 20100819-0208.

Comment Date: 5 p.m. Eastern Time on Wednesday, September 08, 2010.

Docket Numbers: ER10-1805-001.

Applicants: The Connecticut Light and Power Company.

Description: The Connecticut Light and Power Company submits tariff filing per 35: PSNH Compliance Baseline Filing of Market-Based Tariff Under Order No. 714 to be effective 7/19/2010.

Filed Date: 08/20/2010.

Accession Number: 20100820-5142.

Comment Date: 5 p.m. Eastern Time on Friday, September 10, 2010.

Docket Numbers: ER10-1808-001.

Applicants: Western Massachusetts Electric Company.

Description: Western Massachusetts Electric Company submits tariff filing per 35: WMECO Compliance Baseline Filing of Market-Based Tariff Under Order No. 714 to be effective 7/19/2010.

Filed Date: 08/20/2010.

Accession Number: 20100820-5146.

Comment Date: 5 p.m. Eastern Time on Friday, September 10, 2010.

Docket Numbers: ER10-1810-001.

Applicants: E. I. du Pont de Nemours and Company.

Description: E. I. du Pont de Nemours and Company submits tariff filing per 35.17(b): Amendment to DuPont MBR Tariff to be effective 9/30/2010.

Filed Date: 08/20/2010.

Accession Number: 20100820-5053.

Comment Date: 5 p.m. Eastern Time on Friday, September 10, 2010.

Docket Numbers: ER10-1879-001.

Applicants: Wabash Valley Power Association, Inc.

Description: Wabash Valley Power Association, Inc. submits tariff filing per 35: WVPA Baseline Formulary Rate Tariff to be effective 8/20/2010.

Filed Date: 08/20/2010.

Accession Number: 20100820-5141.

Comment Date: 5 p.m. Eastern Time on Friday, September 10, 2010.

Docket Numbers: ER10-2111-001.

Applicants: MidAmerican Energy Company.

Description: MidAmerican Energy Company submits revisions to Open Access Transmission Tariff.

Filed Date: 08/20/2010.

Accession Number: 20100823-0201.

Comment Date: 5 p.m. Eastern Time on Friday, September 10, 2010.

Docket Numbers: ER10-2151-001.

Applicants: Windstar Energy, LLC.

Description: Windstar Energy, LLC submits Original Sheet No 1 to FERC Electric Tariff, Original Volume No 1, effective 9/5/10.

Filed Date: 08/18/2010.

Accession Number: 20100819-0209.

Comment Date: 5 p.m. Eastern Time on Wednesday, September 01, 2010.

Docket Numbers: ER10-2259-000.

Applicants: Allegheny Energy Supply Company, LLC.

Description: Allegheny Energy Supply Co, LLC submits a request for authorization to make wholesale power sales to an affiliate.

Filed Date: 08/17/2010.

Accession Number: 20100817-0213.

Comment Date: 5 p.m. Eastern Time on Tuesday, September 07, 2010.

Docket Numbers: ER10-2279-000.

Applicants: PacifiCorp.

Description: PacifiCorp submits a Notice of Termination for First Revised Service Agreement No. 357.

Filed Date: 08/18/2010.

Accession Number: 20100818-0205.

Comment Date: 5 p.m. Eastern Time on Wednesday, September 08, 2010.

Docket Numbers: ER10-2284-000.

Applicants: National Grid Generation LLC.

Description: National Grid Generation LLC submits filing containing certain information re its Pension and Other Post Employment Benefits Costs for the year ending 12/31/10.

Filed Date: 08/19/2010.

Accession Number: 20100819-0205.

Comment Date: 5 p.m. Eastern Time on Thursday, September 09, 2010.

Docket Numbers: ER10-2285-000.

Applicants: Central Maine Power Company.

Description: Central Maine Power Company submits tariff filing per 35.12: CMP Baseline eTariff Filing to be effective 8/19/2010.

Filed Date: 08/20/2010.

Accession Number: 20100820-5021.

Comment Date: 5 p.m. Eastern Time on Friday, September 10, 2010.

Docket Numbers: ER10-2286-000.

Applicants: PJM Interconnection, LLC

Description: PJM Interconnection, LLC submits an executed Wholesale Market Participation Agreement with Alethea Cleantech Advisors, LLC and Public Service Electric & Gas Co executed on 7/21/10.

Filed Date: 08/20/2010.

Accession Number: 20100820-0203.

Comment Date: 5 p.m. Eastern Time on Friday, September 10, 2010.

Docket Numbers: ER10-2287-000.

Applicants: Unitil Power Corp.

Description: Unitil Power Corp. submits Notice of Cancellation of its FERC Electric Tariff, Third Revised Volume 3.

Filed Date: 08/19/2010.

Accession Number: 20100820-0204.

Comment Date: 5 p.m. Eastern Time on Thursday, September 09, 2010.

Docket Numbers: ER10-2288-000.

Applicants: Optim Energy Marketing LLC.

Description: Optim Energy Marketing LLC submits tariff filing per 35.12: Optim Energy Marketing MBR Baseline to be effective 8/20/2010.

Filed Date: 08/20/2010.

Accession Number: 20100820-5063.

Comment Date: 5 p.m. Eastern Time on Friday, September 10, 2010.

Docket Numbers: ER10-2289-000.

Applicants: UniSource Energy Development Company.

Description: UniSource Energy Development Company submits tariff filing per 35.12: Baseline Filing for UniSource Energy Development Company MBR Tariff to be effective 8/23/2010.

Filed Date: 08/20/2010.

Accession Number: 20100820-5073.

Comment Date: 5 p.m. Eastern Time on Friday, September 10, 2010.

Docket Numbers: ER10-2290-000.

Applicants: Avista Corporation.

Description: Avista Corporation submits its baseline tariff filing to FERC Electric Tariff, Volume No. 9, Version 8.0.0 et al., to be effective 8/20/2010.

Filed Date: 08/20/2010.

Accession Number: 20100820-5075.

Comment Date: 5 p.m. Eastern Time on Friday, September 10, 2010.

Docket Numbers: ER10-2291-000.

Applicants: Westmoreland Partners.

Description: Westmoreland Partners submits tariff filing per 35.12: Baseline Market-Based Rates to be effective 8/20/2010.

Filed Date: 08/20/2010.

Accession Number: 20100820-5112.

Comment Date: 5 p.m. Eastern Time on Friday, September 10, 2010.

Docket Numbers: ER10-2292-000.

Applicants: Entergy Arkansas, Inc.

Description: Entergy Arkansas, Inc. submits tariff filing per 35.13(a)(2)(iii): ETEC 9th Rev. NITSA to be effective 8/1/2010.

Filed Date: 08/20/2010.

Accession Number: 20100820-5143.

Comment Date: 5 p.m. Eastern Time on Friday, September 10, 2010.

Docket Numbers: ER10-2293-000.

Applicants: California Independent System Operator Corporation.

Description: California Independent System Operator Corporation submits tariff filing per 35: 2010-08-23 CAISO Scarcity Pricing Compliance to be effective 12/14/2010.

Filed Date: 08/23/2010.

Accession Number: 20100823-5068.

Comment Date: 5 p.m. Eastern Time on Monday, September 13, 2010.

Docket Numbers: ER10-2294-000.

Applicants: ORNI 18, LLC.

Description: ORNI 18, LLC submits tariff filing per 35.12: ORNI 18 Baseline MBR Filing to be effective 8/17/2010.

Filed Date: 08/23/2010.

Accession Number: 20100823-5071.

Comment Date: 5 p.m. Eastern Time on Monday, September 13, 2010.

Docket Numbers: ER10-2295-000.

Applicants: WSPP Inc.

Description: WSPP Inc. submits tariff filing per 35.13(a)(2)(iii): Submission of New Schedules D and E to WSPP Agreement to be effective 11/1/2010.

Filed Date: 08/23/2010.

Accession Number: 20100823-5085.

Comment Date: 5 p.m. Eastern Time on Monday, September 13, 2010.

Docket Numbers: ER10-2296-000.

Applicants: Hermiston Power, LLC.

Description: Hermiston Power, LLC submits tariff filing per 35.13(a)(2)(iii): Hermiston Power, LLC—BPA Transmission Rights Filing to be effective 8/24/2010.

Filed Date: 08/23/2010.

Accession Number: 20100823-5104.

Comment Date: 5 p.m. Eastern Time on Monday, September 13, 2010.

Docket Numbers: ER10-2297-000.

Applicants: California Independent System Operator Corporation.

Description: California Independent System Operator Corporation submits tariff filing per 35.13(a)(2)(iii): 2010-08-23 CAISO CRR Credit Provisions Amendment to be effective 11/1/2010.

Filed Date: 08/23/2010.

Accession Number: 20100823-5106.

Comment Date: 5 p.m. Eastern Time on Monday, September 13, 2010.

Docket Numbers: ER10-2298-000.

Applicants: Enserco Energy Inc.

Description: Enserco Energy Inc. submits tariff filing per 35.12: MBR Application of Enserco Energy LLC to be effective 9/1/2010.

Filed Date: 08/23/2010.

Accession Number: 20100823-5107.

Comment Date: 5 p.m. Eastern Time on Monday, September 13, 2010.

Take notice that the Commission received the following electric securities filings:

Docket Numbers: ES10-54-000.

Applicants: MDU Resources Group, Inc.

Description: Application of MDU Resources Group, Inc. under New Docket for authority to issue up to $1 billion worth of various securities for the next 2 years.

Filed Date: 08/19/2010.

Accession Number: 20100819-5050.

Comment Date: 5 p.m. Eastern Time on Thursday, September 09, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-21654 Filed 8-30-10; 8:45 am]

BILLING CODE 6717-01-P